DEPARTMENT OF COMMERCE

National Oceanic and Atmospheric Administration

[I.D. 022301B]

Endangered Species; Permits

AGENCY: National Marine Fisheries Service (NMFS), National Oceanic and Atmospheric Administration (NOAA), Commerce.

ACTION: Receipt of applications for five scientific research/enhancement permits (1293, 1295, 1296, 1297, 1298).

SUMMARY: Notice is hereby given of the following actions regarding permits for takes of endangered and threatened species for the purposes of scientific research and/or enhancement: NMFS has received five applications for scientific research/enhancement permits under the Endangered Species Act (ESA): Brian Perleberg of Northern Resource Consulting at Longview, WA (NRC) (1293); Peter Dutton, Ph.D., of the NMFS Southwest Fisheries Science Center and Donna McDonald (1297), Dr. R. Michael Laurs, of the NMFS - Southwest Fisheries Science Center (NMFS-SWFSC) (1296); Dr. Michael P. Sissenwine of the NMFS - Northeast Fisheries Science Center (NMFS-NEFSC) (1295) and Ms. Melissa Salmon, of Riverbanks Zoological Park (1298).

DATES: Comments or requests for a public hearing on any of the new applications or modification requests must be received at the appropriate address or fax number no later than 5 p.m. eastern standard time on April 4, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

For permits 1295, 1296, 1297, 1298: Endangered Species Division, F/PR3, 1315 East West Highway, Silver Spring, MD 20910 (phone:301-713-1401, fax: 301-713-0376).

For permit 1293: Protected Resources Division, F/NWO3, 525 NE Oregon Street, Suite 500, Portland, OR 97232-2737 (phone: 503-230-5400, fax: 503-230-5435).

Documents may also be reviewed by appointment in the Office of Protected Resources, F/PR3, NMFS, 1315 East-West Highway, Silver Spring, MD 20910-3226 (phone:301-713-1401).

FOR FURTHER INFORMATION CONTACT: For permits 1295, 1296, 1297, 1298: Terri Jordan, Silver Spring, MD (phone: 301-713-1401, fax: 301-713-0376, e-mail: Terri.Jordan@noaa.gov)

For permit 1293: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Threatened and endangered Olive ridley turtle (Lepidochelys olivacea)

Fish

Chinook salmon (O. tshawytscha): endangered, naturally produced and artificially propagated, upper Columbia River (UCR) spring; threatened lower Columbia River (LCR).

Chum salmon (O. keta): threatened Columbia River.

Steelhead (O. mykiss): endangered, naturally produced and artificially propagated, UCR; threatened middle Columbia River (MCR); threatened LCR.

Endangered Shortnose Sturgeon (Acipenser brevirostrum)

New Applications Received

Application 1293

Brian Perleberg of NRC requests a 5-year permit (1293) for annual takes of ESA-listed anadromous fish species associated with scientific research to be conducted in numerous headwater streams throughout OR and WA. The purpose of the research is to determine juvenile fish presence or absence on privately owned timberlands and to provide the Washington Department of Natural Resources, the Oregon Department of Forestry, and other state agencies with information to be used to update fish distribution maps. The research will benefit ESA-listed salmonids by providing information on the upper extent of fish usage in headwater streams, providing information on potential stream blockages which may inhibit anadromous fish migration, and providing information that will assist small landowners with culvert projects that could result in an increase in available fish habitat. ESA-listed juvenile fish are proposed to be observed/harassed or captured (using electrofishing or angling), handled, and released. ESA-listed juvenile fish indirect mortalities are also requested.

Application 1295

The applicant has requested a 5-year permit to take sea turtles during research activities conducted by the Northeast Fisheries Science Center. The center is developing a 5-year plan for turtle research. The goal of the 5-year plan for sea turtles in the Northeast is to work cooperatively with other regions to support and direct research on sea turtles in order to identify and assess the status of sea turtle stocks, reduce the estimated mortality associated with fishing activities and other anthropogenic and natural sources and to recover ESA listed species.

Application 1296

The applicant has requested a 5-year permit to authorize commercial fisherman working in the Hawaii Longline Fishery to flipper tag and collect biopsy samples from sea turtles incidentally taken in the fishery. Tissue collection training and program oversight will be conducted by the Southwest Fisheries Science Center. The information gained from the additional tissue samples will allow NMFS to better fulfill its ESA responsibilities to protect, conserve, and recover listed species of sea turtles and better meet the goals and objectives of the U.S. Pacific Sea Turtle Recovery Plans and the requirements of present and future Section 7 biological opinions developed for this fishery.

Application 1297

The applicant has requested a 5-year permit to continue to conduct long-term monitoring of the status of turtles in San Diego Bay, CA. The applicant currently holds permit #988 which will expire on April 30. 2001. Information that will be gathered during the continuation of this research include: numbers of animals present, species composition, size, sex, health status, and presence or absence of tags.

Application 1298

The applicant has requested a 5-year permit to continue to maintain eleven adult shortnose sturgeon received from the South Carolina Department of Natural Resources in 1996 for education purposes.

Dated: February 27, 2001.
Wanda L. Cain,
Acting Deputy Office Director, Office of Protected Resources, National Marine Fisheries Service.

[FR Doc. 01-5260 Filed 3-2-01; 8:45 am]

BILLING CODE 3510-22-S